FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), to approve of and assign OMB control numbers to collection of information requests and requirements conducted or sponsored by the Board. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

DATES: Comments must be submitted on or before November 5, 2012.

ADDRESSES: You may submit comments, identified by (FR 3066a, b, c, and d), by any of the following methods:

• Agency Web Site: http://www.federalreserve.gov. Follow the instructions for submitting comments at http://www.federalreserve.gov/generalinfo/foia/ProposedRegs.cfm.

• Federal eRulemaking Portal: http://www.regulations.gov. Follow the instructions for submitting comments.

• Email: regs.comments@federalreserve.gov. Include OMB number in the subject line of the message.

• Fax: (202) 452-3819 or (202) 452-3102.

• Mail: Robert deV. Frierson, Secretary, Board of Governors of the Federal Reserve System, 20th Street and Constitution Avenue NW., Washington, DC 20551.

All public comments are available from the Board's Web site at www.federalreserve.gov/generalinfo/foia/ProposedRegs.cfm as submitted, unless modified for technical reasons. Accordingly, your comments will not be edited to remove any identifying or contact information. Public comments may also be viewed electronically or in paper form in Room MP-500 of the Board's Martin Building (20th and C Streets NW.) between 9 a.m. and 5 p.m. on weekdays.

Additionally, commenters may send a copy of their comments to the OMB Desk Officer—Shagufta Ahmed—Office of Information and Regulatory Affairs, Office of Management and Budget, New Executive Office Building, Room 10235, 725 17th Street NW., Washington, DC 20503 or by fax to (202) 395-6974.

FOR FURTHER INFORMATION CONTACT: Geoffrey R. Gerdes, Senior Economist, (202) 872-4953, Division of Reserve Bank Operations and Payment Systems, Board of Governors of the Federal Reserve System, Washington, DC 20551.

A copy of the PRA OMB submission, including the proposed reporting form and instructions, supporting statement, and other documentation will be placed into OMB's public docket files, once approved. These documents will also be made available on the Federal Reserve Board's public Web site at: http://www.federalreserve.gov/boarddocs/reportforms/review.cfm or may be requested from the agency clearance officer, whose name appears below.

Federal Reserve Board Clearance Officer—Cynthia Ayouch—Division of Research and Statistics, Board of Governors of the Federal Reserve System, Washington, DC 20551, (202) 452-3829. Telecommunications Device for the Deaf (TDD) users may contact (202) 263-4869, Board of Governors of the Federal Reserve System, Washington, DC 20551.

SUPPLEMENTARY INFORMATION:

Request for Comment on Information Collection Proposal

The following information collection, which is being handled under this delegated authority, has received initial Board approval and is hereby published for comment. At the end of the comment period, the proposed information collection, along with an analysis of comments and recommendations received, will be submitted to the Board for final approval under OMB delegated authority. Comments are invited on the following:

a. Whether the proposed collection of information is necessary for the proper performance of the Federal Reserve's functions, including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal to approve under OMB delegated authority the implementation of the following information collection:

Report title: Retail Payments Surveys.¹

¹ The proposed surveys, supporting statement, and other documentation are available on the Board's public Web site at: http://www.federalreserve.gov/boarddocs/reportforms/review.cfm.

Agency form number: FR 3066a, b, c, and d.

OMB control number: 7100—to be assigned.

Frequency: FR 3066a, b, and c: triennial (once every three years) and FR 3066d: annual and on occasion.

Reporters: Depository and financial institutions, payment networks, payment processors, and payment instrument issuers.

Estimated reporting hours: FR 3066a: 49,000 hours; FR 3066b: 1,040 hours; FR 3066c: 450 hours; FR 3066d: 400 hours.

Estimated average hours per response: FR 3066a: 35 hours; FR 3066b: 8 hours; FR 3066c: 3 hours; FR 3066d: 8 hours.

Estimated number of respondents: FR 3066a: 1,400; FR 3066b: 130; FR 3066c: 150; FR 3066d: 50.

General description of report: The Federal Reserve is generally authorized to collect the information called for by the FR 3066 series pursuant to sections 2A and 12A of the Federal Reserve Act. In addition, survey questions in the FR 3066 are authorized pursuant to the Board's authority under one or more of the following statutes:

• Expedited Funds Availability Act section 609 (12 U.S.C. 4008)

• Electronic Fund Transfer Act section 904 (15 U.S.C. 1693b) and 920 (15 U.S.C. 1693o-2)

• Truth in Lending Act section 105 (15 U.S.C. 1604)

• The Check Clearing for the 21st Century Act section 15 (12 U.S.C. 5014)

• Federal Reserve Act section 11 (Examinations and reports, Supervision over Reserve Banks, and Federal Reserve Note provisions, 12 U.S.C. 248); section 11A (Pricing of Services, 12 U.S.C. 248a); section 13 (FRB deposits and collections, 12 U.S.C. 342); and section 16 (Issuance of Federal Reserve Notes, par clearance, and FRB clearinghouse, 12 U.S.C. 248-1, 360, and 411)

Additionally, depending upon the survey respondent, the information collection may be authorized under a more specific statute. Specifically, the Board is authorized to collect information from state member banks under section 9 of the Federal Reserve Act (12 U.S.C. 324); from bank holding companies (and their subsidiaries) under section 5(c) of the Bank Holding Company Act (12 U.S.C. 1844(c)); from savings and loan holding companies under (12 U.S.C. 1467a(b)(3) and 5412), from Edge Act and agreement corporations under sections 25 and 25A of the Federal Reserve Act (12 U.S.C. 602 and 625); and from U.S. branches and agencies of foreign banks under section 7(c)(2) of the International Banking Act of 1978 (12 U.S.C. 3105(c)(2)), and under section 7(a) of the Federal Deposit Insurance Act (12 U.S.C. 1817(a)).

Obligation to Respond: Voluntary.

Confidentiality: Respondents to the various surveys are requested to report confidential business information, such as information requested in the FR 3066a (for depository and financial institutions) about the number and value of deposits in various customer account types, image check deposits, paper check deposits, ACH entries, wire transfers, debit and prepaid card transactions, credit card transactions, mobile payments, and transactions involving third-party fraud. The other surveys request similar types of confidential “number and value” information appropriate to the surveyed entities. For example, the Network, Processor, and Issuer Payments Surveys (FR 3066b) request the number, value, and type of transactions involving credit cards (both general-purpose and private-label), debit cards, and prepaid cards from respondents (card networks, card processors, and retail merchants). Only aggregate totals from the surveys, such as estimated national volumes and trends in different types and categories of payments, check distribution, and established and emerging payment instruments, are proposed to be publicly released.

Under exemption 4 of the Freedom of Information Act (“FOIA”), 5 U.S.C. 552(b)(4), “trade secrets and commercial or financial information obtained from a person and privileged or confidential” may be excluded from disclosure. The confidential business information collected voluntarily from individual respondents may be withheld, as release of such information would impair the Board's ability to collect such information in the future. Moreover, disclosure of such confidential business information could cause substantial competitive harm to the survey respondents. See National Parks & Conservation Ass'n v. Morton, 498 F.2d 765, 770 (D.C. Cir. 1974).

Abstract: The Board proposes to implement the voluntary Retail Payments Surveys: Depository and Financial Institution Payments Survey (FR 3066a); Network, Processor, and Issuer Payments Surveys (FR 3066b); Check Sample Survey (FR 3066c); and Retail Payments Survey Supplement (FR 3066d).

These surveys would be designed to collect information needed to support the Federal Reserve System's role in the retail payments system.² The Federal Reserve plays a vital role in the U.S. payments system, helping to foster its safety and efficiency, and providing a variety of banking services to depository institutions and the federal government.³

² While the Federal Reserve is involved with both retail and wholesale payments, these surveys are designed to collect information on retail payments and the systems or networks that are primarily used to make retail payments. Retail payments are generally for relatively small dollar amounts and often involve a depository institution's retail clients—individuals, businesses, and governments. Wholesale payments are generally for relatively large dollar amounts, and often involve a depository institution's large corporate customers or counterparties, including other financial institutions. Wholesale payments are not the main focus of the surveys, but may be included in cases where there is a need.

³ For depository institutions, the Reserve Banks maintain accounts for reserve and clearing balances and provide various payment services, including collecting checks, electronically transferring funds, and distributing and receiving currency and coin. For the federal government, they act as fiscal agents. As such, the Reserve Banks maintain the Treasury Department's transaction account; pay Treasury checks; process electronic payments; and issue, transfer, and redeem U.S. government securities.

The Board proposes to conduct these surveys in partnership with the Reserve Banks' Retail Payment Office (RPO), operated by the Federal Reserve Bank of Atlanta. These surveys would be the latest iteration in a series of surveys of depository institutions, payments networks, processors, and issuers, collectively called the Federal Reserve Payments Study (FRPS) that were conducted at 3-year intervals by the RPO from 2001 to 2010.⁴

⁴ The FR 3066a and the FR 3066b would be designed to be compatible with and a continuation of past triennial surveys on the retail payments system conducted by RPO in 2001, 2004, 2007, and 2010. Data from both surveys would be used to create aggregate estimates for 2012. Reports on past surveys are available at http://frbservices.org/communications/payment_system_research.htm. The Board has also published three Federal Reserve Bulletin articles on the studies in August 2002, Spring 2005, and October 2008.

The FR 3066a and the FR 3066b would collect information on the national volume (number and value) of major categories and subcategories of established and emerging methods of noncash payment from a nationally representative, stratified random sample of depository institutions and from a census of payments networks, processors, and issuers, respectively. These two surveys would also collect information on trends in different business arrangements and technologies connected with the initiation, authorization, collection, and processing of payments. In addition, the FR 3066a would collect the volumes of bank customers' cash withdrawals and deposits at retail branches, wholesale vaults, and automated teller machines (ATMs). The FR 3066b would collect information on cash substitution, such as the distribution of low-value purchases made with noncash instruments and the loading of cash onto other payment instruments.

The FR 3066c would collect data from samples of individual checks obtained from a sample of depository institutions.⁵ The FR 3066d would collect payment volumes similar to those collected in the FR 3066a or the FR 3066b from a subset of respondents to obtain information about changes in volumes that may occur in the two years between triennial surveys.

⁵ This survey would be similar to the Check Sample Studies, part of the FRPS, conducted by the RPO in 2001, 2007, and 2010. As with past studies, copies of checks or any information that would identify payers or payees on the checks would not be retained or used for any purpose other than estimating the aggregate proportions of different types of checks.

In general, the FR3066a, b, and c surveys would be distributed in Q1 2013, and data collection would primarily take place during Q2 2013.

Depository and Financial Institution Payments Survey (FR 3066a)

The survey reference period (the time period for which respondents would report data) is proposed to be March 2013. Past FRPS surveys used a reference period of March and April, and data were reported separately for each month.

The Board specifically requests comment on whether reporting for March 2013 or another survey reference period is more feasible and/or useful, such as reporting data for the months of March and April 2013 combined.

The FR 3066a would comprise ten sections (respondents would only answer sections that apply to their institutions):

1. Institution Profile: Respondents would verify which affiliates are associated with their survey responses as of March 31, 2013, and provide corrections.

2. Customer Accounts: Respondents would report the number of and value of customers' deposits in transaction accounts, funds in prepaid card program accounts, and balances in credit card accounts broken out into subcategories. Transaction deposit accounts would be broken out into subcategories of consumer accounts and business/government accounts; prepaid card program accounts would be broken out into subcategories of customer accounts managed by the respondents' institutions and customer accounts managed by third parties; and credit card accounts would be broken out into subcategories of consumer accounts and business/government accounts. Respondents would also report the number of outstanding and active (during Q1 2013) payment cards associated with these accounts.

The Board specifically requests comment on the following:

i. How institutions refer to “full service” transaction deposit accounts (e.g. checking accounts, debit card accounts, etc.) to distinguish them from prepaid card accounts.

ii. Whether prepaid card-issuing depository institutions can reliably measure the number of end-user prepaid card accounts and prepaid cards outstanding for prepaid card programs managed by third parties.

iii. Whether it is more feasible and/or useful to ask for number of active cards outstanding or number of accounts with recent card activity for credit card, debit card, and prepaid card accounts.

iv. The most feasible and/or useful time period over which a payment card account should have payment or transaction activity to be considered active as well as what kinds of transactions, if any, should not be counted toward activity.

3. Checks:

a. Check Payments: Respondents would report the number and value of checks drawn on their institutions by subcategories needed to identify interbank checks and avoid double-counting correspondent volumes.

b. Check Deposits: Respondents would report the number and value of deposited checks, including the number and value of paper check deposits and image check deposits broken out into consumer client image capture, business customer client image capture, and correspondent checks. For image deposits, the section would also obtain information on the types of customer check image deposits accepted, including whether respondents' institutions accepted image deposits from customers using a remote scanner attached to a PC or point-of-sale device, smartphone or other mobile device, or ATM image capture (envelope-free deposits).

The Board specifically requests comment on whether institutions are able to report customer check image deposit volumes (number and value) into the categories listed above, or if a different type of categorization would be more feasible and/or useful.

c. Outgoing Check Returns: Respondents would report the number and value of outgoing returned checks.

4. ACH:

a. Network ACH Entries: Respondents would report the number and value of interbank ACH credits originated and ACH debits received through network operators, including the number and value of “offset entries.”

b. Direct Exchange ACH Entries: Respondents would report the number and value of interbank ACH credits originated and debits received directly from other institutions rather than through network operators.

c. In-House On-Us ACH Entries: Respondents would report the number and value of in-house on-us credits originated and debits received by their institutions, including the number and value of “offset entries.”

The Board specifically requests comment on whether, similar to section 3.a Check Payments above, including a breakout of ACH volumes (number and value) into subcategories needed to identify interbank ACH payments would help to avoid double-counting correspondent ACH volumes.

5. Wire Transfers: Respondents would report the number and value of wire transfers originated for nonbank customers (a type of retail payment), including the number and value of consumer and business/government wire transfers and the number and value of wire transfers to U.S. and foreign payees.

The Board specifically requests comment on the following:

i. Whether institutions can separate wire transfer origination volumes (number and value) by consumer and business/government customers.

ii. Whether institutions can separate wire transfer origination volumes (number and value) between domestic and foreign wire transfers.

6. Debit and Prepaid Cards: Respondents would report the number and value of debit and prepaid card transactions for cards issued by their institutions, including the number and value of signature and PIN transactions, the number and value of debit card transactions from transaction deposit accounts, and the number and value of prepaid card transactions. Respondents would also report the number and value of cash back transactions.

7. Credit Cards: Respondents would report the number and value of total credit card transactions for cards issued by their institutions, including the number and value of consumer and business/government credit card transactions and the number and value of cash advances.

8. Cash:

a. Cash Withdrawals: Respondents would report the number and value of cash withdrawals at branch locations, wholesale vaults, and ATMs, including the number and value of cash withdrawals at ATMs from transaction deposit accounts and prepaid card program accounts.

The Board specifically requests comment on whether institutions can report cash withdrawals separated by the access method categories listed above (e.g., over-the-counter, ATM, etc.), or whether another method of categorization would be more feasible and/or useful.

b. Cash Deposits: Respondents would report the number and value of cash deposits at branch locations, wholesale vaults, and ATMs.

c. ATM Terminals: Respondents would report the number of ATM terminals owned and sponsored by their institutions, including the number of ATM terminals at branch locations and offsite.⁶

⁶ The Board believes that ATM networks require non-depository institution ATM owners to obtain sponsorship from depository institutions, and that networks view these transactions as belonging to the sponsoring institutions.

The Board specifically requests comment on the following:

i. Whether any non-depository institution ATM owners are able to directly connect through ATM networks or if they all require depository institution sponsorship.

ii. Whether institutions can report non-branded ATM terminals that they sponsor.

9. Selected Payment Initiation Channels: Respondents would report the number and value of online payments and mobile payments, including the number and value of relevant bill pay transactions and person-to-person transfers.

The Board specifically requests comment on the following:

i. How institutions define an “online person-to-person funds transfer system.”

ii. Whether institutions can separately track payments initiated via mobile devices and distinguish mobile payments from other payments from the same accounts.

10. Third-Party Payment Fraud: Respondents would report the number and value of unauthorized check payments, unauthorized ACH credits and debits, unauthorized debit and prepaid card transactions, unauthorized credit card transactions, and unauthorized ATM cash withdrawals.

The Board specifically requests comment on whether institutions can report information on unauthorized transactions, as defined, or whether another definition of third-party fraud would be more feasible and/or useful to report.

Network, Processor, and Issuer Payments Surveys (FR 3066b)

The FR 3066b would cover seven categories of payment instruments, and comprise 16 different surveys, each specific to a particular payment instrument and/or respondent type (respondents would only answer surveys that apply to their organizations):

1. General-Purpose Credit Card Network Survey: Networks would report the number and value of general-purpose credit card transactions in 2012, including the number and value of credit card and charge card transactions, the number and value of transactions by payment initiation and authorization method, the number and value of consumer and business/government transactions, the number and value of transactions with U.S. payees and payees outside the U.S., and the number and value of transactions broken out by transaction dollar amount. Respondents would also report the number of credit and charge cards outstanding and the total number and value of general-purpose credit card transactions in 2010 and 2011.

The Board specifically requests comment on the following:

i. Whether networks can report cash advances received in physical cash form as a subset of total cash advances. (Total cash advances include not only physical cash advances but also other funds transfers such as an electronic transfer to a transaction deposit account or a payment made with credit account funds using a special check issued to the cardholder).

ii. What terms the industry most commonly uses for initiation methods such as near field communication (NFC), near-field radio-frequency identification (RFID), the Europay, MasterCard and Visa standard (EMV), and other chip technologies; what terms the industry uses for authorization methods that use dynamic data generated by a card or a network-sponsored online verification system; and which initiation and authorization methods are feasible and/or useful to report.

iii. Whether networks can distinguish between payments to domestic and foreign payees.

iv. The most feasible and/or useful time period over which a general-purpose credit card account should have payment or transaction activity to be considered active, as well as what kinds of transactions, if any, should not be counted toward activity.

2. Private-Label Credit Card Retail Merchant Issuer Survey: Retail merchant issuers would report the number and value of private-label credit card transactions in 2012, including the number and value of transactions by payment initiation method, the number and value of consumer and business/government transactions, and the number and value of transactions broken out by transaction dollar amount. Respondents would also report the number of private-label cards outstanding as of December 31, 2012, and the total number and value of private-label credit card transactions in 2010 and 2011. Retail merchant issuers would only report on transactions that they processed in-house so that transactions with outsourced processing are not double-counted in the Processor Survey.

The Board specifically requests comment on the most feasible and/or useful time period over which a private-label credit card account should have payment or transaction activity to be considered active, as well as what kinds of transactions, if any, should not be counted toward activity.

3. Private-Label Credit Card Processor Survey: Processors would report the number and value of private-label credit card transactions in 2012, including the number and value of transactions by payment initiation method, the number and value of consumer and business/government transactions, and the number and value of transactions broken out by transaction dollar amount. Respondents would also report the number of private-label cards outstanding as of December 31, 2012, and the total number and value of private-label credit card transactions in 2010 and 2011.

The Board specifically requests comment on the most feasible and/or useful time period over which a private-label card account should have payment or transaction activity to be considered active, as well as what kinds of transactions, if any, should not be counted toward activity.

4. Debit Card and General-Use Prepaid Card Network Surveys:

The Board specifically requests comment on the following:

i. What terms the industry most commonly uses for initiation methods such as NFC, near-field RFID, EMV, and other chip technologies; what terms the industry uses for authorization methods that use dynamic data generated by a card or a network-sponsored online verification system; and which initiation and authorization methods are most feasible and/or useful to report.

ii. Whether networks can distinguish between payments to domestic and foreign payees.

a. Debit Card Network Survey: Networks would report the number and value of debit card transactions in 2012, including the number and value of transactions by payment initiation and authorization method, the number and value of consumer and business/government transactions, the number and value of transactions with U.S. payees and payees outside the U.S., and the number and value of transactions broken out by transaction dollar amount. If a network could not report general-use prepaid card transactions separately from debit card transactions, the network would report both debit card and general-use prepaid card transactions on this survey.

b. General-Use Prepaid Card Network Survey: Networks would report the number and value of general-use prepaid card transactions in 2012, including the number and value of transactions by payment initiation and authorization method, the number and value of transactions with U.S. payees and payees outside the U.S., and the number and value of transactions broken out by transaction dollar amount. A network would only complete this survey if it could report debit card transactions and general-use prepaid card transactions separately.

The Board specifically requests comment on how prepaid cards should be defined in order to develop a consistent definition among responses provided by networks and processors.

5. General-Use Prepaid Card Processor Survey: Processors would report the number and value of general-use prepaid card transactions in 2012, including the number and value of transactions by payment initiation method, the number and value of transactions with U.S. payees and payees outside the U.S., the number and value of transactions by prepaid card type, and the number and value of transactions broken out by transaction dollar amount. Respondents would also report the number and value of credits and loads to general-use prepaid cards in 2012 and the number of general-use prepaid cards outstanding as of December 31, 2012.

The Board specifically requests comment on the following:

i. How prepaid cards should be defined in order to develop a consistent definition among responses provided by networks and processors.

ii. The categories (e.g. gift, medical, payroll, etc.) by which processors can separate prepaid card volumes and which categories are most feasible and/or useful.

iii. Whether processors, issuers, or networks would be better able to report volumes by category.

iv. Whether processors can categorize fund deposits into prepaid card accounts (loads) by the payment instrument or method used to provide the funds.

v. The most feasible and/or useful time period over which a general-use prepaid card account should have payment or transaction activity to be considered active, as well as what kinds of transactions, if any, should not be counted toward activity.

6. Private-Label Prepaid Card Issuer and Processor Survey: Processors would report the number and value of private-label prepaid card transactions in 2012, including the number and value of transactions by payment initiation method, the number and value of transactions by prepaid card type, and the number and value of transactions broken out by transaction dollar amount. Respondents would also report the number and value of credits and loads to private-label prepaid cards in 2012, the number and value of cash withdrawals from private-label prepaid card accounts in 2012, the number of general-use prepaid cards outstanding as of December 31, 2012, and the total number and value of private-label prepaid card transactions in 2010 and 2011.

The Board specifically requests comment on the following:

i. The categories (e.g. gift, customer incentive, etc.) by which processors can separate prepaid card volumes and which categories are most significant.

ii. Whether processors can categorize deposits into prepaid card accounts (loads) by the payment instrument or method used to provide the funds.

iii. The most feasible and/or useful time period over which a private-label prepaid card account should have payment or transaction activity to be considered active, as well as what kinds of transactions, if any, should not be counted toward activity.

7. Emerging Payments Processor Surveys: The Board specifically requests comment on whether there are additional emerging payments that should be measured in the survey.

a. Person-to-Person (P2P) & Money Transfer Processor Survey: Processors would report the number and value of P2P and money transfer transactions in 2012, including the number and value of transactions with U.S. payees and payees outside the U.S., the number and value of transactions broken out by transaction dollar amount, the number and value of transactions by clearing system, and the number and value of transactions by origination channel.

The Board specifically requests comment on the following:

i. Whether networks can distinguish between payments to domestic and foreign payees.

ii. Whether processors are able to report payments by initiation channel (Web site, mobile, in-person, etc.).

b. Online Bill Payment Processor Survey: Processors would report the number and value of bank/intermediary and biller direct online bill payment transactions in 2012, including the number and value of transactions broken out by transaction dollar amount, the number and value of bank/intermediary online bill payment transactions by settlement system.

c. Walk-In Bill Payment Processor Survey: Processors would report the number and value of walk-in bill payment transactions in 2012, including the number and value of transactions broken out by transaction dollar amount and the number and value of transactions by settlement system. Respondents would also report on the funding method for walk-in bill payment transactions.

The Board specifically requests comment on whether processors are able to categorize by the payment instrument or method used to fund bill payment transactions.

d. Deferred Payment Processor Survey: Processors would report the number and value of deferred payment transactions in 2012, including the number and value of transactions broken out by transaction dollar amount and the number and value of transactions by merchant settlement system. Respondents would also report on the funding method for deferred payment transactions.

The Board specifically requests comment on whether processors are able to categorize by the payment instrument or method used to fund transactions.

e. Private-Label ACH Debit Card Processor Survey: Processors would report the number and value of private-label ACH debit card transactions in 2012, including the number and value of transactions by transaction dollar amount and the number and value of transactions by merchant settlement system. Respondents would also report on the number of private-label ACH debit cards outstanding as of December 31, 2012.

The Board specifically requests comment on the most feasible and/or useful time period over which a private-label ACH debit card account should have payment or transaction activity to be considered active, as well as what kinds of transactions, if any, should not be counted toward activity.

f. Far-Field RFID Payment Processor Survey: Processors would report the number and value of far-field RFID transactions in 2012, including the number and value of transactions by transaction dollar amount. These payments typically involve a vehicle-mounted transmitter used to automatically pay at tollbooths at bridges and roads. Respondents would also report on the funding method for far-field RFID transactions.

The Board specifically requests comment on whether processors are able to categorize by the payment instrument or method used to fund accounts and transactions.

g. Secure Online Payment Processor Survey: Processors would report the number and value of secure online payment transactions in 2012, including the number and value of transactions by transaction dollar amount.

h. eCommerce PIN Debit Payment Processor Survey: Processors would report the number and value of eCommerce PIN debit payment transactions in 2012, including the number and value of transactions by transaction dollar amount.

i. Mobile Wallet Processor Survey: Processors would report the number and value of mobile wallet transactions in 2012, including the number and value of transactions by transaction dollar amount.

The Board specifically requests comment on which entities should receive the Mobile Wallet Processor Survey, and what range of products should be included.

Check Sample Survey (FR 3066c):

The FR 3066c would conduct a survey that in past FRPS surveys was referred to as the Check Sample Study (CSS). This survey would collect data on individual checks paid in 2012. Versions of the CSS were conducted in three out of four FRPS, including the first and last. The survey instrument design could be modified slightly, but is expected to be very similar to the instrument used in 2010. More importantly, the data collection method may be revised based on proposals received through a competitive bidding process. Past approaches included the collection of individual check information on multiple survey forms provided by a stratified sample of about 150 depository institutions and the use of survey forms by personnel employed by a contractor using images retrieved from a single institution that aggregated data from about 11 very large institutions. The decision on what approach to use for this survey will be based on an evaluation of the proposals received. Depository institutions would not be asked to complete the survey instrument.

The Board specifically requests comment on the following:

i. The most effective methods of selecting a random sample of check images from within depository institutions.

ii. The most valuable and feasible information to collect from the checks.

Retail Payments Survey Supplement (FR 3066d)

The FR 3066d data may be collected from networks, processors, and issuers in order to update the volume of major electronic payment instruments such as credit cards and prepaid cards, and emerging payment instruments. The surveys may include parts of the FR 3066a and b, or may involve new sections if new payment system developments emerge.

Board of Governors of the Federal Reserve System, August 31, 2012.
Robert deV. Frierson,
Secretary of the Board.

[FR Doc. 2012-21960 Filed 9-5-12; 8:45 am]

BILLING CODE 6210-01-P